DEPARTMENT OF THE TREASURY

Customs Service

[T.D. 00-76]

Revocation of Customs Broker Licenses

AGENCY: U.S. Customs Service, Department of the Treasury.

ACTION: Customs Broker License Revocations.

I, as Assistant Commissioner, Office of Field Operations, pursuant to section 641 of the Tariff Act of 1930, as amended (19 U.S.C. 1641) and the Customs Regulations (19 CFR 111), hereby revoke by operation of law the following Customs broker licenses without prejudice based on the authority as annotated:

Name | Port | License No. | Authority
Scott J. Goldberg | New York | 10686 | 19 CFR 111.30 (d)(4).
Kenneth T. Brock | New York | 11266 | 19 CFR 111.30 (d)(4).
Ronald Lee | New York | 07337 | 19 CFR 111.30 (d)(4).
SAIMA Avandero USA, Inc | New York | 10718 | 19 CFR 111.45(a).

Dated: October 25, 2000.
Bonni G. Tischler,
Assistant Commissioner, Office of Field Operations.

[FR Doc. 00-27838 Filed 10-30-00; 8:45 am]

BILLING CODE 4820-02-P